DEPARTMENT OF DEFENSE

Department of the Army

[Docket ID: USA-2022-HQ-0005]

Proposed Collection; Comment Request

AGENCY: Department of the Army, Department of Defense (DoD).

ACTION: 60-Day information collection notice.

SUMMARY: In compliance with the Paperwork Reduction Act of 1995, the U.S. Army Installation Management Command, G1 Passport Services Division/DoD Passport and Visa, announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 16, 2022.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the U.S. Army Installation Management Command, G1 Passport Services Division/DoD Passport and Visa, 9301 Chapek Road, Fort Belvoir, VA 22060, ATTN: Mr. Edmund T. Snead, (703) 545-9531, or email: edmund.t.snead.civ@army.mil.

SUPPLEMENTARY INFORMATION: Title; Associated Form; and OMB Number: Department of Defense Passport and Passport Agent Services, Authorization to Apply for a “No-Fee” Passport and/or Request for Visa; DD Form 1056; OMB Control Number 0702-0134.

Needs and Uses: The information collection requirement is necessary to obtain and record the personally identifiable information of official passport and/or visa applicants. This information is used to process, track, and verify no-fee passport and visa applications and requests for additional visa pages, Status of Forces Agreement endorsement, Multinational Force and Observers.

Affected Public: Individuals or households.

Annual Burden Hours: 175,000.

Number of Respondents: 175,000.

Responses per Respondent: 1.

Annual Responses: 175,000.

Average Burden per Response: 60 minutes,

Frequency: On occasion.

Respondents are DoD civilian and military personnel, and eligible accompanying family members traveling on official government orders to a country requiring a no-fee passport and/or visa. Authorization to apply for no-fee passport is granted to those who can verify U.S. citizenship and legitimate official travel needs. Authorization to request a visa may also be granted to non U.S. citizen family members, whose names are listed on the sponsor's official travel orders. The information collected on this form is shared with the Department of State and the designated foreign embassies.

Dated: March 8, 2022.
Aaron T. Siegel,
Alternate OSD Federal Register Liaison Officer, Department of Defense.

[FR Doc. 2022-05452 Filed 3-14-22; 8:45 am]

BILLING CODE 5001-06-P